FEDERAL ELECTION COMMISSION

Sunshine Act Meeting

AGENCY: Federal Election Commission.

* * * * *

Previously Announced Date and Time: Tuesday, May 11, 2004, 10 a.m. meeting closed to the public. This meeting was cancelled.

* * * * *

Date and Time: Tuesday, May 18, 2004 at 10 a.m.

Place: 999 E Street, NW., Washington, DC

Status: This meeting will be closed to the public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

* * * * *

Date and Time: Thursday, May 20, 2004 at 10 a.m.

Place: 999 E Street, NW., Washington, DC (ninth floor)

Status: This meeting will be open to the public.

Items to be Discussed: Correction and Approval of Minutes.

Advisory Opinion 2004-11: Streitz for U.S. Senate 2004.

Routine Administrative Matters.

FOR FURTHER INFORMATION CONTACT: Mr. Robert Biersack, Acting Press Officer, Telephone: (202) 694-1220.

Mary W. Dove,
Secretary of the Commission.

[FR Doc. 04-10904 Filed 5-10-04; 2:56 pm]

BILLING CODE 6715-01-M